DEPARTMENT OF HOMELAND SECURITY

Coast Guard

33 CFR Part 165

[Docket No. USCG-2024-0648]

Safety Zone; Fleet Week Maritime Festival, Pier 66, Elliott Bay, Seattle, Washington

AGENCY: Coast Guard, DHS.

ACTION: Notification of enforcement of regulation.

SUMMARY: The Coast Guard will enforce a safety zone for the Fleet Week Maritime Festival Parade of Ships on all waters extending 100 yards from Pier 66, Elliott Bay, Seattle, Washington on July 30, 2024, to provide for the safety of life on navigable waterways during the event. The regulation identifies the safety zone for this event in Seattle, Washington. During the enforcement period no vessel operator may enter, transit, moor, or anchor within the safety zone, except for vessels authorized by the Captain of the Port (COTP) or their designated representative(s).

DATES: The regulations in 33 CFR 165.1330 will be enforced from noon through 3:30 p.m. on July 30, 2024.

FOR FURTHER INFORMATION CONTACT: If you have questions about this notification of enforcement, call or email Lieutenant Commander John Robertson, U.S. Coast Guard Sector Puget Sound, Waterways Management Division; by telephone 206-217-6051, or email SectorPugetSoundWWM@uscg.mil.

SUPPLEMENTARY INFORMATION: The Coast Guard will enforce a safety zone identified in 33 CFR 165.1330 for the Fleet Week Maritime Festival Parade of Ships, thirty (30) minutes prior to the beginning, during, and thirty (30) minutes following the conclusion of the event from 8 a.m. to 8 p.m. on July 30, 2024. The safety zone will encompass all waters extending 100 yards from Pier 66, Elliott Bay, Seattle, Washington within a box encompassed by the points, 47°36.719′ N, 122°21.099′ W; 47°36.682′ N, 122°21.149′ W; 47°36.514′ N, 122°20.865′ W; and 47°36.552′ N, 122°20.814′ W. This action is being taken to provide for the safety of life on navigable waterways during this event. During the enforcement period, no vessel operator may enter, transit, moor, or anchor within the safety zone, except for vessels authorized by the COTP or their designated representative(s).

For the purpose of this rule, the Parade of Ships includes both the pass and review of the ships near Pier 66 and the aerial demonstrations immediately following the pass and review.

The COTP may be assisted by other federal, state, or local agencies as needed. In order to transit through this safety zone, authorization must be granted by the COTP or their designated representative(s). All vessel operators desiring entry must gain authorization by contacting either the on-scene U.S. Coast Guard patrol craft on VHF Ch. 13 or 16, or Coast Guard Sector Puget Sound Joint Harbor Operations Center (JHOC) via telephone at (206) 217-6002. Requests must indicate the reason why movement within the safety zone is necessary and provide applicable information of the vessel's arrival, departure facility name, pier, and berth. Vessel operators granted to permission to enter this safety zone will be escorted by the on-scene patrol until no longer in the safety zone and must obey the lawful orders or directions of the COTP or designated representative(s).

In addition to this notification of enforcement in the Federal Register, the Coast Guard plans to provide notification of this enforcement period via marine information broadcasts and Local Notice to Mariners.

Dated: July 24, 2024.
Mark A. McDonnell,
Captain, U.S. Coast Guard, Captain of the Port, Sector Puget Sound.

[FR Doc. 2024-16694 Filed 7-29-24; 8:45 am]

BILLING CODE 9110-04-P